DEPARTMENT OF JUSTICE

Notice of Lodging of Modification of Consent Decree Under the Clean Water Act, the Clean Air Act, and the Resource Conservation and Recovery Act

Notice is hereby given that on May 13, 2008, a proposed “Agreement And Order Regarding Modification Of The August 10, 2006 Consent Decree” (“Agreement and Order”) in United States of America v. Rohm and Haas Texas Inc., Civil Action No. 4:06-cv-01622, was lodged with the United States District Court for the Southern District of Texas.

In its Complaint filed May 11, 2006, the United States alleged that Rohm and Haas Texas Inc. (“Rohm and Haas”) violated Clean Water Act section 301, 33 U.S.C. 1311, by discharging pollutants in excess of permit effluent limits; violated Clean Air Act section 112(d), 42 U.S.C. 7412(d), by failing to comply with the requirements of the national emission standards for hazardous air pollutants (“NESHAPS”), 40 CFR Part 63; and violated the Resource Conservation and Recovery Act section 3008(a) and (g), 42 U.S.C. 6928(a) and (g), by failing to comply with the provisions of the federally approved Texas hazardous waste management program. The alleged violations occurred at a chemical manufacturing complex owned and operated by Rohm and Haas located in Deer Park, Texas (“the facility”). The United States sought injunctive relief and civil penalties to address these violations.

On August 10, 2006, the court entered a Consent Decree in the matter (“the 2006 Consent Decree”) which required Rohm and Haas to pay a civil penalty of $485,000 and implement a supplemental environmental project (“SEP”). The SEP required by the 2006 Consent Decree involved the purchase of at least 300 acres of coastal wetlands and associated upland prairie in the Texas Galveston Bay Watershed (“the Conservation Property”) and the transfer of the Conservation Property to a non-profit for conservation. The Consent Decree also required monitoring of CWA compliance. If Rohm and Haas violates the effluent limits in its permit, the Consent Decree requires the company to take action to prevent future violations.

Under the 2006 Consent Decree, Rohm and Haas paid the civil penalty of $485,000 and began implementing a SEP. The 2006 Consent Decree provided for implementation of the SEP by transfer of the Conservation Property to a private non-profit organization. The proposed Agreement and Order would modify the SEP requirements of the 2006 Consent Decree to add the option of allowing Rohm and Haas to transfer the Conservation Property to a government agency and by allowing some additional time for completion of the SEP. The proposed Agreement and Order would also modify the termination provisions of the 2006 Consent Decree.

The United States Department of Justice will receive for a period of five (5) days from the date of this publication comments relating to the Agreement and Order. Comments should be addressed to the Assistant Attorney General, Environment and Natural Resources Division, and either e-mailed to pubcomment-ees.enrd@usdoj.gov or mailed to P.O. Box 7611, U.S. Department of Justice, Washington, DC 20044-7611, and should reference United States v. Rohm and Haas Texas, Inc., Civil Action No. 4:06-cv-01622, D.J. Ref. No. 90-5-1-1-06926.

The Agreement and Order may be examined at the Office of the United States Attorney, 919 Milam St., Suite 1500, Houston, TX 77002. During the public comment period, the Agreement and Order may also be examined on the following Department of Justice Web site: http://www.usdoj.gov/enrd/Consent_Decrees.html. A copy of the Agreement and Order may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $4.25 (25 cents per page reproduction cost) payable to the U.S. Treasury or, if by e-mail or fax, forward a check in that amount to the Consent Decree Library at the stated address.

Maureen M. Katz,
Assistant Section Chief, Environmental Enforcement Section, Environment and Natural Resources Division.

[FR Doc. E8-11073 Filed 5-16-08; 8:45 am]

BILLING CODE 4410-CW-P